DEPARTMENT OF HOUSING AND URBAN DEVELOPMENT

[Docket No. FR-5752-N-37]

30-Day Notice of Proposed Information Collection: Baseline Assessment of Renewable Energy Capacity Within HUD's Public Housing and Federally-Assisted Multifamily Housing Portfolios

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: May 12, 2014.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov.

FOR FURTHER INFORMATION CONTACT: Colette Pollard, Reports Management Officer, QDAM, Department of Housing and Urban Development, 451 7th Street SW., Washington, DC 20410; email Colette Pollard at Colette.Pollard@hud.gov or telephone 202-402-3400. Persons with hearing or speech impairments may access this number through TTY by calling the toll-free Federal Relay Service at (800) 877-8339. This is not a toll-free number. Copies of available documents submitted to OMB may be obtained from Ms. Pollard.

SUPPLEMENTARY INFORMATION: This notice informs the public that HUD has submitted to OMB a request for approval of the information collection described in Section A. The Federal Register notice that solicited public comment on the information collection for a period of 60 days was published on January 21, 2014.

A. Overview of Information Collection

Title of Information Collection: Baseline Assessment of Renewable Energy Capacity Within HUD's Public Housing and Federally-Assisted Multifamily Housing Portfolios.

OMB Approval Number: 2528-New.

Type of Request: New collection.

Form Number: None.

Description of the need for the information and proposed use: The information is being collected to establish a baseline assessment of the renewable energy capacity in HUD's public housing and federally-assisted multifamily housing portfolios. The assessment will support President Obama's Climate Action Plan, which calls for the installation of 100 megawatts (MW) of renewable energy generation capacity by 2020 at LIHTC properties (Treasury), Rural Development properties (USDA), and public housing and multifamily-assisted properties (HUD). The proposed data collection instrument is a web-based census survey that will be supported by follow-up telephone interviews to all non-respondents.

Respondents: (i.e. affected public): Employees of housing organizations receiving funding from HUD, specifically public housing agencies and HUD-assisted multifamily properties.

Estimated Number of Respondents: 20,370.

Estimated Number of Responses: 16,296 (based on a 80% response rate).

Frequency of Response: 1.

Average Hours per Response: 0.467 (weighted average).

Total Estimated Burdens: 9,507.

Information collection | Number of respondents | Frequency of response | Responses per annum | Burden hour per response | Annual burden hours | Hourly cost per response | Annual cost
Web Survey only | 16,296 | 1 | 1 | 0.4 | 6,114 | $42.66 | $260,823
Telephone Interview & Web Survey | 3,821 | 1 | 1 | 0.733 | 2,802 | 42.66 | 119,533
Total | 20,370 |  |  |  | 9,507 |  | 405,526

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35

Dated: April 4, 2014.
Colette Pollard,
Department Reports Management Officer, Office of the Chief Information Officer.

[FR Doc. 2014-08184 Filed 4-10-14; 8:45 am]

BILLING CODE 4210-67-P